NATIONAL ARCHIVES AND RECORDS ADMINISTRATION

[NARA-2020-048]

Agency Information Collection Activities: Submission for OMB Review; Comment Request

AGENCY: National Archives and Records Administration (NARA).

ACTION: Notice.

SUMMARY: We have submitted to OMB for approval our request to continue to use the information collections described in this notice, consisting of National Archives Trust Fund (NATF) order forms for genealogical research in the National Archives. The NATF forms included in this information collection are: NATF 84, National Archives Order for Copies of Land Entry Files; NATF 85, National Archives Order for Copies of Pension or Bounty Land Warrant Applications; and NATF 86, National Archives Order for Copies of Military Service Records. We invite you to comment on the proposed extensions.

DATES: OMB must receive written comments on or before July 16, 2020.

ADDRESSES: Send comments and recommendations for the proposed information collections to www.reginfo.gov/public/do/PRAMain by July 16, 2020. Find these particular information collections by selecting “Currently under 30-day Review—Open for Public Comments” or by using the search function.

FOR FURTHER INFORMATION CONTACT: Contact Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Pub. L. 104-13), we invite the general public and other Federal agencies to comment on proposed information collections. We published a notice of proposed collection for these information collections on April 8, 2020 (85 FR 19778) and we received no comments. We have therefore submitted the described information collections to OMB for approval.

You should address one or more of the following points in any comments or suggestions you submit: (a) Whether the proposed information collections are necessary for NARA to properly perform its functions; (b) our estimates of the burden of the proposed information collections and their accuracy; (c) ways we could enhance the quality, utility, and clarity of the information we collect; (d) ways we could minimize the burden on respondents of collecting the information, including through information technology; and (e) whether these collections affect small businesses. All comments will become a matter of public record.

In this notice, we solicit comments concerning the following information collections:

Collection 1

1. Title: Request To Use Personal Paper-to-Paper Copiers at the National Archives at the College Park Facility.

OMB number: 3095-0035.

Agency form number: None.

Type of review: Regular.

Affected public: Business or other for-profit.

Estimated number of respondents: 5.

Estimated time per response: 3 hours.

Frequency of response: On occasion.

Estimated total annual burden hours: 15 hours.

Abstract: The information collection is prescribed by 36 CFR 1254.86. Respondents are organizations that want to make paper-to-paper copies of archival holdings with their personal copiers. NARA uses the information to determine whether the request meets the criteria in 36 CFR 1254.86 and to schedule the limited space available.

Collections 2 and 3

The following two information collections relate to requests for documents or information from former military personnel and medical records, military personnel and family medical records, or personnel and medical records of former Federal civilian employees. Both of these information collections are prescribed by 36 CFR 1228.164. In accordance with rules issued by the Office of Personnel Management, NARA's National Personnel Records Center (NPRC) administers Official Personnel Folders (OPF) and Employee Medical Folders (EMF) of former Federal civilian employees. In addition, in accordance with rules issued by the Department of Defense and the Department of Transportation (U.S. Coast Guard), NPRC also administers military personnel and medical records of veterans after discharge, retirement, and death, as well as the medical records of current members of the Armed Forces and dependents of Armed Forces personnel. When veterans, dependents, and other authorized individuals request information from or copies of documents in military personnel, military medical, and dependent medical records, they must provide on forms or in letters certain information about the veteran and the nature of the request.

2. Title: Court Order Requirements.

OMB number: 3095-0038.

Agency form number: NA Form 13027.

Type of review: Regular.

Affected public: Veterans and former Federal civilian employees, their authorized representatives, state and local governments, and businesses.

Estimated number of respondents: 5,000.

Estimated time per response: 15 minutes.

Frequency of response: On occasion.

Estimated total annual burden hours: 1,250 hours.

Abstract: We use the NA Form 13027, Court Order Requirements, to advise requesters of (1) the correct procedures to follow when requesting certified copies of records for use in civil litigation or criminal actions in courts of law, and (2) the information they need to provide so we may identify the correct records.

3. Title: Authorization for Release of Military Medical Patient Records; Request for Information Needed to Locate Medical Records; Request for Information Needed to Reconstruct Medical Data; Questionnaire about Military Service; and Check the Status of a Clinical & Medical Treatment Records Request.

OMB number: 3095-0039.

Agency form number: NA Forms 13036, 13042, 13055, 13075, and 13177.

Type of review: Regular.

Affected public: Veterans, their authorized representatives, state and local governments, and businesses.

Estimated number of respondents: 79,800.

Estimated time per response: 5 minutes.

Frequency of response: On occasion (when respondent wishes to request information from military personnel, military medical, or dependent medical records).

Estimated total annual burden hours: 6,650 hours.

Abstract: A major fire at the NPRC on July 12, 1973, destroyed numerous military records. If individuals' requests involve records or information from records that may have been lost in the fire, we may ask requestors to complete NA Form 13075, Questionnaire about Military Service, or NA Form 13055, Request for Information Needed to Reconstruct Medical Data, so that NPRC staff can search alternative sources to reconstruct the requested information. Requesters who ask for medical records of dependents of service personnel and hospitalization records of military personnel must complete NA Form 13042, Request for Information Needed to Locate Medical Records, so that NPRC staff can locate the desired records. Certain types of information contained in military personnel and medical records are restricted from disclosure unless the veteran provides a more specific release authorization than is normally required. Veterans must complete NA Form 13036, Authorization for Release of Military Medical Patient Records, to authorize release to a third party of a restricted type of information found in the desired record. For those who have already made a request, and want to check the status, they can use NA Form 13177, Check the Status of a Clinical & Medical Treatment Records Request.

Swarnali Haldar,
Executive for Information Services/CIO.

[FR Doc. 2020-12890 Filed 6-15-20; 8:45 am]

BILLING CODE 7515-01-P